DEPARTMENT OF STATE

[Public Notice: 10859]

Notice of Receipt of Request From the Government of the Kingdom of Morocco Under Article 9 of the 1970 UNESCO Convention on the Means of Prohibiting and Preventing the Illicit Import, Export and Transfer of Ownership of Cultural Property

SUMMARY: Notice of receipt of request from Morocco for cultural property protection.

FOR FURTHER INFORMATION CONTACT: Catherine Foster, Cultural Heritage Center, Bureau of Educational and Cultural Affairs: 202-632-6301; culprop@state.gov.

SUPPLEMENTARY INFORMATION: The Government of the Kingdom of Morocco has made a request to the Government of the United States under Article 9 of the 1970 UNESCO Convention on the Means of Prohibiting and Preventing the Illicit Import, Export and Transfer of Ownership of Cultural Property. The United States Department of State received this request on June 12, 2019. Morocco's request seeks U.S. import restrictions on archaeological and ethnological material representing Morocco's cultural patrimony. Pursuant to the authority vested in the Assistant Secretary of State for Educational and Cultural Affairs, and pursuant to 19 U.S.C. 2602(f)(1), notification of the request is hereby published. A public summary of Morocco's request and information about U.S. implementation of the 1970 UNESCO Convention will be available at the Cultural Heritage Center website: http://culturalheritage.state.gov.

Marie Therese Porter Royce,
Assistant Secretary, Bureau of Educational and Cultural Affairs, U.S. Department of State.

[FR Doc. 2019-18049 Filed 8-20-19; 8:45 am]

BILLING CODE 4710-05-P